DEPARTMENT OF THE INTERIOR

Fish and Wildlife Service

[FWS-R2-ES-2020-0122; FXES11130200000-212-FF02ENEH00]

Endangered and Threatened Wildlife and Plants; Draft Recovery Plan for Kuenzler Hedgehog Cactus

AGENCY: Fish and Wildlife Service, Interior.

ACTION: Notice of availability; request for comment.

SUMMARY: We, the U.S. Fish and Wildlife Service, announce the availability of our draft recovery plan for Kuenzler hedgehog cactus, a small cactus found in New Mexico. Kuenzler hedgehog cactus is listed as threatened under the Endangered Species Act. We provide this notice to seek comments from the public and Federal, Tribal, State, and local governments.

DATES: To ensure consideration, we must receive written comments on or before July 9, 2021. However, we will accept information about any species at any time.

ADDRESSES: Reviewing documents: You may obtain a copy of the draft recovery plan, recovery implementation strategy, and species status assessment by any one of the following methods:

• Internet: Go to one of the following sites:

○ http://www.regulations.gov in Docket No. FWS-R2-ES-2020-0122;

○ https://ecos.fws.gov/ecp0/profile/speciesProfile?spcode=Q1VW; or

○ https://www.fws.gov/southwest/es/NewMexico/.

• U.S. mail: Send a request to U.S. Fish and Wildlife Service, New Mexico Ecological Services Field Office (NMESFO), 2105 Osuna NE, Albuquerque, NM 87113.

• Telephone: 505-346-2525 or 800-299-0196.

Submitting comments: Submit your comments on the draft recovery plan in writing by either of the following methods:

○ Federal eRulemaking Portal: http://www.regulations.gov. Follow the instructions for submitting comments on Docket No. FWS-R2-ES-2020-0122; or

○ U.S. mail: Public Comments Processing; Attn: Docket No. FWS-R2-ES-2020-0122; U.S. Fish and Wildlife Service Headquarters, MS: PRB/3W; 5275 Leesburg Pike, Falls Church, VA 22041-3803

For additional information about submitting comments, see Request for Public Comments and Public Availability of Comments under SUPPLEMENTARY INFORMATION.

FOR FURTHER INFORMATION CONTACT: Shawn Sartorius, Field Supervisor, at the above address and phone number, or by email at nmesfo@fws.gov. Individuals who are hearing or speech impaired may call the Federal Relay Service at 1-800-877-8339 for TTY assistance.

SUPPLEMENTARY INFORMATION: We, the U.S. Fish and Wildlife Service (Service), announce the availability of our draft recovery plan for Kuenzler hedgehog cactus (Echinocereus fendleri var. kuenzleri), listed as endangered in 1979 and reclassified to threatened in 2018 under the Endangered Species Act of 1973, as amended (ESA; 16 U.S.C. 1531 et seq.). We request review and comment on this plan from local, State, and Federal agencies; Tribes; and the public. We will also accept any new information on the status of Kuenzler hedgehog cactus throughout the species' range to assist in finalizing the recovery plan.

Kuenzler hedgehog cactus (Echinocereus fendleri var. kuenzleri) is a small cactus that is endemic to the Sacramento Mountains in Lincoln County, New Mexico, and the Guadalupe Mountains in Eddy County, New Mexico. The draft recovery plan includes specific recovery objective, measurable criteria and management actions that, when achieved, will enable us to consider removing the Kuenzler hedgehog cactus from the Federal List of Endangered and Threatened Wildlife (List).

Background

Section 4(f) of the ESA requires the development of recovery plans for listed species, unless such a plan would not promote the conservation of a particular species. Also pursuant to section 4(f) of the ESA, a recovery plan must, to the maximum extent practicable, include:

(1) A description of site-specific management actions as may be necessary to achieve the plan's goals for the conservation and survival of the species;

(2) Objective, measurable criteria that, when met, would support a determination under section 4(a)(1) that the species should be removed from the List of Endangered and Threatened Species; and

(3) Estimates of the time and costs required to carry out those measures needed to achieve the plan's goal and to achieve intermediate steps toward that goal.

We used a streamlined approach to recovery planning and implementation by first conducting a species status assessment (SSA) of Kuenzler hedgehog cactus (Service 2017). An SSA is a comprehensive analysis of the species' needs, current condition, threats, and future viability. The information in the SSA provides the biological background, a threats assessment, and a basis for a strategy for recovery of Kuenzler hedgehog cactus. We then used this information to prepare an abbreviated draft recovery plan for Kuenzler hedgehog cactus that includes prioritized recovery actions, criteria for removing the species from the List, and the estimated time and cost to recovery.

Species Background

Kuenzler hedgehog cactus was federally listed as endangered in 1979 (October 26, 1979; 44 FR 61924) as Echinocereus kuenzleri, and downlisted to threatened in 2018 (May 11, 2018; 83 FR 21928). No critical habitat was designated, due to threat of collection. At the time of listing, fewer than 200 individuals had been documented at 11 locations. Biologists and botanists have since found at least 4,330 individual plants through inventories conducted from 1976 to 2015.

This endemic cactus occurs primarily on Federal lands in New Mexico, ranging from the northwest side of the Sacramento Mountains in Lincoln County to the middle of the Guadalupe Mountains in Eddy County. The Kuenzler hedgehog cactus occupies gentle slopes (0.3-30.6 degrees) or benches with gravelly to rocky soils and southern, eastern, and western exposures (New Mexico Energy, Minerals, and Natural Resources Department 1989: pp. 93-94) in shrubby grassland and juniper savanna habitat types with tree cover varying from 2 to 25 percent, with grasses being the dominant vegetative cover (Sivinski 1999: pp. 1-2).

The factors influencing the current and future health of populations include wildfire, livestock grazing, illegal collection, climate change, and small population size and low densities. These influences pose the greatest risks to the future viability of this species and are largely related to direct impacts such as mortality or removal, and habitat changes exacerbated by changing climatic conditions.

Recovery Criteria

The draft recovery criteria are summarized below. For a complete description of the rationale behind the criteria, the recovery strategy, management actions, and estimated time and costs associated with recovery, refer to the Draft Recovery Plan for Kuenzler Hedgehog Cactus (see ADDRESSES for document availability).

The ultimate recovery goal is to remove the Kuenzler hedgehog cactus from the Federal List of Endangered and Threatened Wildlife (i.e., “delist” the species) by ensuring the long-term viability of the species in the wild. In the recovery plan, we define the following criteria for “delisting,” or removal of the species from the List, based on the best available information on the species.

Delisting Criteria

Criterion 1 (Resiliency): Demonstrate a stable or increasing trend in abundance for the northern Sacramento, southern Sacramento, and Guadalupe Mountains core sites (Fort Stanton, Elk, Texas Hills) over a 20-year period.

Criterion 2 (Redundancy): Maintain a minimum of three geographically separated core sites over a 20-year period.

Criterion 3 (Representation):

3a. Maintain presence of Kuenzler hedgehog cactus at 80 percent of all known subpopulations (element occurrences) outside of the core sites over a 20-year period, with any extirpations compensated for by newly identified or colonized subpopulations.

3b. Maintain genetic diversity within all core sites as measured by the inbreeding coefficient for individuals within subpopulations (FIS) at or within one standard deviation of the FIS from viable populations of a closely related cactus species with similar reproductive strategies.

Request for Public Comments

Section 4(f) of the ESA requires us to provide public notice and an opportunity for public review and comment during recovery plan development. It is also our policy to request peer review of recovery plans (July 1, 1994; 59 FR 34270). In an appendix to the final recovery plan, we will summarize and respond to the issues raised by the public and peer reviewers. Comments may or may not result in changes to the recovery plan; comments regarding recovery plan implementation will be forwarded as appropriate to Federal or other entities so that they can be taken into account during the course of implementation of recovery actions. Responses to individual commenters will not be provided, but we will provide a summary of how we addressed substantive comments in an appendix to the final recovery plan.

We invite written comments on this draft recovery plan. In particular, we are interested in additional information regarding the current threats to the species, ongoing beneficial management efforts, and the costs associated with implementing the recommended recovery actions. The species status assessment and recovery implementation strategy are accessible as supporting documents for the draft recovery plan, but we are not seeking comments on those documents.

Public Availability of Comments

All comments received, including names and addresses, will become part of the administrative record and will be available to the public. Before including your address, phone number, email address, or other personal identifying information in your comment, you should be aware that your entire comment—including your personal identifying information—will be publicly available. If you submit a hard copy comment that includes personal identifying information, you may request at the top of your document that we withhold this information from public review. However, we cannot guarantee that we will be able to do so. Comments and materials we receive will be available, by appointment, for public inspection during normal business hours at our office (see ADDRESSES).

Authority

We developed our draft recovery plan and publish this notice under the authority of section 4(f) of the Endangered Species Act of 1973, as amended (16 U.S.C. 1531 et seq.).

Amy L. Lueders,
Regional Director, Southwest Region, U.S. Fish and Wildlife Service.

[FR Doc. 2021-09810 Filed 5-7-21; 8:45 am]

BILLING CODE 4333-15-P